DEPARTMENT OF THE INTERIOR

National Park Service

Notice of Termination of the Environmental Impact Statement for the Exit Glacier Area Plan

AGENCY: National Park Service, Interior.

SUMMARY: The NPS is terminating the Environmental Impact Statement (EIS) for the Exit Glacier Area Plan because it has determined an Environmental Assessment (EA) will suffice. A Notice of Intent to prepare the EIS for the Exit Glacier Area Plan was published July 27, 2001 (66 FR 39196). Preliminary analysis of alternatives showed there was no potential for significant impacts to park resources and values. Scoping conducted for the draft EIS indicated less controversy than anticipated when the project was initiated. Furthermore, changes to the proposal, specifically, dropping the proposed alternative transportation system (shuttle bus), reduced the scope of this planning effort. For these reasons the NPS determined the proposal would not constitute a major federal action requiring an EIS.

In place of the EIS, the NPS has issued an environmental assessment (EA) that considers the following four alternatives and related impacts:

No-Action Alternative: Continue the present management direction as guided by the 1984 General Management Plan and the 1996 Development Concept Plan.

Preferred Alternative: Enhance the experience of viewing Exit Glacier, which is the main attraction of the area, and provide for additional non-motorized recreational opportunities.

Alternative A: Improve interpretation, education, and non-motorized recreation by increasing staff and developing programs rather than improving infrastructure.

Alternative B: Improve the infrastructure of the Exit Glacier area to accommodate a greater number of visitors and recreational activities year-round.

DATES: The EA was distributed for public comment in May 2004, and a decision will be made in June 2004.

FOR FURTHER INFORMATION CONTACT: Anne Castellina, Superintendent, Kenai Fjords National Park, P.O. Box 1727, Seward, AK 99664. Telephone (907) 224-7515.

Dated: June 2, 2004.
Kayci Cook Collins,
Alaska Desk Officer.

[FR Doc. 04-17250 Filed 7-28-04; 8:45 am]

BILLING CODE 4312-HY-P